SMALL BUSINESS ADMINISTRATION

Disaster Declaration #10747; South Carolina Disaster #SC-00002 Declaration of Economic Injury

AGENCY: U.S. Small Business Administration.

ACTION: Notice.

SUMMARY: This is a notice of an Economic Injury Disaster Loan (EIDL) declaration for the State of South Carolina, dated 12/08/2006.

Incident: Fire.

Incident Period: 06/06/2006.

Effective Date: 12/08/2006.

EIDL Loan Application Deadline Date: 09/10/2007.

Addresses: Submit completed loan applications to: U.S. Small Business Administration, Processing and Disbursement Center, 14925 Kingsport Road, Fort Worth, Tx 76155.

FOR FURTHER INFORMATION CONTACT: A. Escobar, Office of Disaster Assistance, U.S. Small Business Administration, 409 3rd Street, SW., Suite 6050, Washington, DC 20416.

SUPPLEMENTARY INFORMATION: Notice is hereby given that as a result of the Administrator's EIDL declaration, applications for economic injury disaster loans may be filed at the address listed above or other locally announced locations.

The following areas have been determined to be adversely affected by the disaster:

Primary County: Chester.

Contiguous Counties: South Carolina; Fairfield, Lancaster, Union, York.

The Interest Rate is: 4.000.

The number assigned to this disaster for economic injury is 107470.

The State which received an EIDL Declaration Number is South Carolina.

(Catalog of Federal Domestic Assistance Number 59002).
Steven C. Preston,
Administrator.

[FR Doc. E6-21324 Filed 12-14-06; 8:45 am]

BILLING CODE 8025-01-P